DEPARTMENT OF TRANSPORTATION

Federal Aviation Administration

[Advisory Circular Number AC 23-17B]

Advisory Circular on Systems and Equipment Guide for Certification of Part 23 Airplanes and Airships

AGENCY: Federal Aviation Administration, DOT.

ACTION: Extension of comment period.

SUMMARY: This notice announces the extension of the comment period for the notice of availability and request for comments for Systems and Equipment Guide for Certification of Part 23 Airplanes and Airships.

The FAA is extending the comment period to allow companies and individuals adequate time to complete their comments to the proposed criteria.

DATES: The comment period is being extended from October 29, 2004, to November 29, 2004.

ADDRESSES: Copies of the proposed advisory circular, AC 23-17B, may be requested from the following: Small Airplane Directorate, Standards Office (ACE-110), Aircraft Certification Service, Federal Aviation Administration, 901 Locust Street, Room 301, Kansas City, MO 64106. The proposed advisory circular is also available on the Internet at the following address http://www.airweb.faa.gov/AC. Send all comments on this proposed advisory circular to the individual identified under FOR FURTHER INFORMATION CONTACT.

FOR FURTHER INFORMATION CONTACT: Leslie B. Taylor, Federal Aviation Administration, Small Airplane Directorate, Regulations & Policy, ACE-111, 901 Locust Street, Room 301, Kansas City, Missouri 64106; telephone: (816) 329-4134; fax: 816-329-4090; e-mail: leslie.b.taylor@faa.gov.

SUPPLEMENTARY INFORMATION:

Comments Invited

We invite your comments on this proposed advisory circular. Send any data or views as you may desire. Identify the proposed Advisory Circular Number AC 23-17B on your comments, and if you submit your comments in writing, send two copies of your comments to the above address. The Small Airplane Directorate will consider all communications received on or before the closing date for comments. We may change the proposal contained in this notice because of the comments received.

Comments sent by fax or the Internet must contain “Comments to proposed advisory circular AC 23-17B” in the subject line. You do not need to send two copies if you fax your comments or send them through the Internet. If you send comments over the Internet as an attached electronic file, format it in either Microsoft Word 97 for Windows or ASCII text. State what specific change you are seeking to the proposed advisory circular and include justification (for example, reasons or data) for each request.

Issued in Kansas City, Missouri on October 7, 2004.
David R. Showers,
Acting Manager, Small Airplane Directorate, Aircraft Certification Service.

[FR Doc. 04-23870 Filed 10-25-04; 8:45 am]

BILLING CODE 4910-13-P